DEPARTMENT OF THE INTERIOR

Bureau of Reclamation

Glen Canyon Dam Adaptive Management Work Group (AMWG), Notice of Meeting

AGENCY: Bureau of Reclamation, Interior.

ACTION: Notice of conference call.

SUMMARY: The Adaptive Management Program (AMP) was implemented as a result of the Record of Decision on the Operation of Glen Canyon Dam Final Environmental Impact Statement to comply with consultation requirements of the Grand Canyon Protection Act (P.L. 102-575) of 1992. The AMP provides an organization and process to ensure the use of scientific information in decision making concerning Glen Canyon Dam operations and protection of the affected resources consistent with the Grand Canyon Protection Act. The AMP has been organized and includes a federal advisory committee (AMWG), a technical work group (TWG), a monitoring and research center, and independent review panels. The TWG is a subcommittee of the AMWG and provides technical advice and information for the AMWG to act upon.

DATES: The AMWG will conduct the following conference call:

Wednesday, December 17, 2003. The conference call will begin at 1 p.m. and conclude at 3 p.m. MOUNTAIN TIME.

Agenda: The purpose of the conference call will be to discuss how to improve interactions between the Glen Canyon Dam Adaptive Management Program and the Grand Canyon Monitoring and Research Center's science advisors.

To register for the conference call, please contact Linda Whetton at (801) 524-3880 at least two (2) days prior to the call. You will be given the phone number and password at that time.

To allow full consideration of information by the AMWG members, written notice must be provided to Dennis Kubly, Bureau of Reclamation, Upper Colorado Regional Office, 125 South State Street, Room 6107, Salt Lake City, Utah, 84138; telephone (801) 524-3715; faxogram (801) 524-3858; e-mail at dkubly@uc.usbr.gov (5) days prior to the meeting. Any written comments received will be provided to the AMWG and TWG members prior to the meeting.

Due to difficulties caused by holidays and leave schedules in setting up this conference call, this notice may be published in a shorter time than normally required by the Federal Advisory Committee Act. However, an e-mail message will be sent by Reclamation to those persons who have expressed interest in the Glen Canyon Dam Adaptive Management Program to allow them full participation on the conference call.

FOR FURTHER INFORMATION CONTACT: Dennis Kubly, telephone (801) 524-3715; faxogram (801) 524-3858; or via e-mail at dkubly@uc.usbr.gov.

Dated: November 26, 2003.
Dennis Kubly,
Chief, Adaptive Management Group, Environmental Resources Division, Upper Colorado Regional Office, Salt Lake City, Utah.

[FR Doc. 03-30848 Filed 12-12-03; 8:45 am]

BILLING CODE 4310-MN-P